DEFENSE NUCLEAR FACILITIES SAFETY BOARD

Meeting; Sunshine Act

Pursuant to the provision of the “Government in the Sunshine Act” (5 U.S.C. § 552b), notice is hereby given of the Defense Nuclear Facilities Safety Board's (Board) meeting described below.

TIME AND DATE OF MEETING: 9 a.m., February 22, 2001.

PLACE: The Defense Nuclear Facilities Safety Board, Public Hearing Room, 625 Indiana Avenue, NW., Suite 300, Washington, DC 20004.

STATUS: Open.

MATTERS TO BE CONSIDERED: The Defense Nuclear Facilities Safety Board (“Board”) will reconvene and continue the fourteenth quarterly open meeting conducted on February 13, 2001, regarding the status of progress of the activities associated with the Department of Energy's Implementation Plans for the Board's Recommendation 95-2, Integrated Safety Management (“ISM”), Recommendation 98-1, Integrated Safety Management (Response to Issues Identified by the Office of Internal Oversight), and Recommendation 2000-2, Configuration Management, Vital Safety Systems. Topics will include the roles of line management in executing these Implementation Plans and the budgetary resources required to satisfy the Department's commitments.

CONTACT PERSON FOR MORE INFORMATION: Richard A. Azzaro, General Counsel, Defense Nuclear Facilities Safety Board, 625 Indiana Avenue, NW., Suite 700, Washington, DC 20004, (800) 788-4016. This is a toll-free number.

SUPPLEMENTARY INFORMATION: The Defense Nuclear Facilities Safety Board reserves its right to further schedule and otherwise regulate the course of this meeting, to recess, reconvene, postpone or adjourn the meeting, and otherwise exercise its authority under the Atomic Energy Act of 1954, as amended.

Dated: February 13, 2001.
John T. Conway,
Chairman.

[FR Doc. 01-4074 Filed 2-13-01; 4:41 pm]

BILLING CODE 3670-01-P